DEPARTMENT OF DEFENSE

Office of the Secretary

Board of Visitors Meeting

AGENCY: Defense Acquisition University, DoD.

ACTION: Announcement of meeting.

SUMMARY: The next meeting of the Defense Acquisition University (DAU) Board of Visitors (BoV) will be held at DAU Headquarters at Fort Belvoir, Virginia. The purpose of this meeting is to report back to the BoV on continuing items of interest.

DATES: The meeting will be held on May 19, 2010 from 0830-1400.

ADDRESSES: The meeting will be held at 9820 Belvoir Road, Fort Belvoir, Virginia 22060.

FOR FURTHER INFORMATION CONTACT: Ms. Kelley Berta at 703-805-5412.

SUPPLEMENTARY INFORMATION: The meeting is open to the public; however, because of space limitations, allocation of seating will be made on a first-come, first served basis. Persons desiring to attend the meeting should call Ms. Kelley Berta at 703-805-5412.

Dated: April 23, 2010.
Mitchell S. Bryman,
Alternate OSD Federal Register Liaison Officer, Department of Defense.

[FR Doc. 2010-9896 Filed 4-28-10; 8:45 am]

BILLING CODE 5001-06-P